Proclamation 10236 of July 26, 2021

Anniversary of the Americans With Disabilities Act, 2021

By the President of the United States of America

A Proclamation

Thirty-one years ago, on July 26, 1990, our Nation moved closer to the fulfillment of its foundational promise when we passed the Americans with Disabilities Act (ADA). This landmark law affirms and protects the fundamental rights of people with disabilities—the right to equal opportunity, economic self-sufficiency, independent living, and equitable participation in every aspect of American life. For more than three decades, the ADA has made our communities, our economy, and our country stronger and more vibrant. It has helped to uphold the dignity of the estimated 61 million Americans who live with a disability—in short, it is a triumph of American civil rights.

I was enormously proud to co-sponsor the ADA, the passage of which was a testament not only to fearless advocacy, but to bipartisan progress. A Democratic bill signed by a Republican President, the ADA was made possible thanks in no small part to the passion and persistence of Senators Tom Harkin and Ted Kennedy and Congressmen Major Owens and Tony Coelho. I will never forget the moment just after the ADA's passage, when Senator Harkin delivered a speech in American Sign Language from the Senate floor—a tribute to his older brother, Frank, who was deaf. That moment was an emotional reminder for all of us of just how personal and powerful the passage of the ADA would be for millions of American families.

Despite the extraordinary progress we have made over the past 31 years, the fight for equitable access and inclusion is far from over. The COVID-19 pandemic has compounded the longstanding inequities and biases that exist for people with disabilities; persistent discrimination and the inability to access services continues to threaten the health and well-being of far too many Americans. Throughout the pandemic, people with disabilities have faced heightened risks—particularly those who lack access to caregiver or support services, those who live in community homes, and the disproportionate share of people with disabilities employed in industries that suffered due to the pandemic. Children and students living with disabilities have also faced an especially challenging year, forced to navigate and adapt to online learning as the virus upended their usual school routines.

As we work to finish the job of defeating COVID-19, my Administration is committed to building on the legacy of the ADA. The American Rescue Plan is providing funding to expand access to home- and community-based services under Medicaid, which will allow more people with disabilities to live safely and independently in their homes. My Build Back Better agenda would build on this by making significant investments in home- and community-based services for people with disabilities and older Americans. It will also spur the creation of quality jobs with good pay, good benefits, and the ability to organize and collectively bargain for caregivers.

My Administration is also committed to advancing the rights of people with disabilities in the workplace to support economic self-sufficiency. I have proposed eliminating outdated provisions in the Fair Labor Standards Act that allow employers to pay workers with disabilities less than the minimum wage. My proposal includes funding this transition with $2 billion to expand access to competitive, integrated employment opportunities for workers with disabilities. In addition, I am committed to making the Federal Government a model employer—including for people with disabilities—to set the gold standard for how best to support inclusion and provide appropriate accommodations. To that end, I recently signed an Executive Order to advance diversity, equity, inclusion, and accessibility in the Federal Workforce—a pledge to lead by example to promote economic stability and good paying jobs for Americans with disabilities.

Before I became President, I promised that every policy my Administration pursued—from rebuilding our middle class, to fighting climate change, to achieving universal health coverage—would be created with the full inclusion and dignity of Americans with disabilities in mind. I am proud to say that since my first day in office, my Administration has delivered on that promise. As we celebrate the monumental legacy of the ADA, we recommit ourselves today to upholding and strengthening its protections—and continuing to advance equity, dignity, access, and inclusion together with the disability community as we build our Nation back better.

NOW, THEREFORE, I, JOSEPH R. BIDEN JR., President of the United States of America, by virtue of the authority vested in me by the Constitution and the laws of the United States, do hereby proclaim July 26, 2021, the Anniversary of the Americans with Disabilities Act. I encourage Americans across our Nation to celebrate the 31st year of this civil rights law and the many contributions of individuals with disabilities.

IN WITNESS WHEREOF, I have hereunto set my hand this twenty-sixth day of July, in the year of our Lord two thousand twenty-one, and of the Independence of the United States of America the two hundred and forty-sixth.

[FR Doc. 2021-16303

Filed 7-28-21; 8:45 am]

Billing code 3295-F1-P